DEPARTMENT OF COMMERCE

National Telecommunications and Information Administration

Community Broadband Summit

AGENCY: National Telecommunications and Information Administration, U.S. Department of Commerce.

ACTION: Notice of open meeting.

SUMMARY: The National Telecommunications and Information Administration (NTIA), through the BroadbandUSA program, in conjunction with Next Century Cities will hold a one-day regional broadband summit, “Digital New England,” to share information to help communities build their broadband capacity and utilization. The summit will present best practices and lessons learned from broadband network infrastructure build-outs and digital inclusion programs from Maine and surrounding states, including projects funded by NTIA's Broadband Technology Opportunities Program (BTOP) and State Broadband Initiative (SBI) grant programs funded by the American Recovery and Reinvestment Act of 2009.¹ The summit will also explore effective business and partnership models.

¹ American Recovery and Reinvestment Act of 2009, Public Law 111-5, 123 Stat. 115 (2009).

DATES: The Digital New England Broadband Summit will be held on September 28, 2015, from 9:00 a.m. to 5:00 p.m., Eastern Daylight Time.

ADDRESSES: The meeting will be held in the Holiday Inn by the Bay, Portland, Maine at 88 Spring Street, Portland, Maine 04101.

FOR FURTHER INFORMATION CONTACT: Barbara Brown, National Telecommunications and Information Administration, U.S. Department of Commerce, Room 4628, 1401 Constitution Avenue NW., Washington, DC 20230; telephone: (202) 482-4374; email: bbrown@ntia.doc.gov. Please direct media inquiries to NTIA's Office of Public Affairs, (202) 482-7002; email: press@ntia.doc.gov.

SUPPLEMENTARY INFORMATION: NTIA's BroadbandUSA initiative provides expert advice and field-proven tools for assessing broadband adoption, planning new infrastructure and engaging a wide range of partners in broadband projects. BroadbandUSA convenes workshops on a regular basis to bring stakeholders together to discuss ways to improve broadband policies, share best practices, and connect communities to other federal agencies and funding sources for the purpose of expanding broadband infrastructure and adoption throughout America's communities.

The Digital Broadband Summit will feature subject matter experts from NTIA's BroadbandUSA initiative and include NTIA presentations that discuss lessons learned through the implementation of the BTOP and SBI grants. A panel will explore key elements required for successful broadband projects using a mix of regional examples. Topics will include marketing/demand aggregation, outreach, coordination with government agencies, partnership strategies, construction and oversight. A second panel will explore why broadband matters in comprehensive community planning and will provide real-world examples of how broadband applications help communities improve economic development, workforce development, and educational opportunities. A third panel will examine business model options, including private networks, public/private partnerships, co-ops and municipal systems. Panelists will provide tips to communities on how to research funding options, make a compelling case to funders, and leverage multiple federal, state, and nonprofit funding streams. Community leaders interested in expanding economic development opportunities or commercial providers interested in expanding their markets, among others, should find the information presented at the summit valuable as they plan their broadband projects.

The summit will be open to the public and press. Pre-registration is required, and space is limited. Portions of the meeting will be webcast. Information on how to pre-register for the meeting, and how to access the free, live Webcast will be available on NTIA's Web site: http://www.ntia.doc.gov/other-publication/2015/NEsummit. NTIA will ask registrants to provide their first and last names and email addresses for both registration purposes and to receive any updates on the summit. If capacity for the meeting is reached, NTIA will maintain a waiting list and will inform those on the waiting list if space becomes available. Meeting updates, changes in the agenda, if any, and relevant documents will be also available on NTIA's Web site at http://www.ntia.doc.gov/other-publication/2015/NEsummit.

The public meeting is physically accessible to people with disabilities. Individuals requiring accommodations, such as language interpretation or other ancillary aids, are asked to notify Barbara Brown at the contact information listed above at least five (5) business days before the meeting.

Dated: July 31, 2015.
Kathy D. Smith,
Chief Counsel, National Telecommunications and Information Administration.

[FR Doc. 2015-19229 Filed 8-4-15; 8:45 am]

BILLING CODE 3510-60-P